DEPARTMENT OF ENERGY

Federal Energy Regulatory Commission

[Docket No. IC19-23-000]

Commission Information Collection Activities (FERC-725P1); Comment Request

AGENCY: Federal Energy Regulatory Commission, Department of Energy.

ACTION: Comment request.

SUMMARY: In compliance with the requirements of the Paperwork Reduction Act of 1995, the Federal Energy Regulatory Commission (Commission or FERC) is submitting its information collection FERC-725P1 (Mandatory Reliability Standards: PRC-005-6 Reliability Standard) to the Office of Management and Budget (OMB) for review of the information collection requirements. Any interested person may file comments directly with OMB and should address a copy of those comments to the Commission as explained below. The Commission previously published a Notice in the Federal Register on May 31, 2019, requesting public comments. The Commission received no comments and is making this notation in its submittal to OMB.

DATES: Comments on the collection of information are due by September 23, 2019.

ADDRESSES: Comments filed with OMB, identified by the OMB Control No. 1902-0280, should be sent via email to the Office of Information and Regulatory Affairs: oira_submission@omb.gov. Attention: Federal Energy Regulatory Commission Desk Officer.

A copy of the comments should also be sent to the Commission, in Docket No. IC19-23-000, by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Title: FERC-725P1 (Mandatory Reliability Standards: PRC-005-6 Reliability Standard).

OMB Control No.: 1902-0280.

Abstract: The Commission requires the information collected by the FERC-725P1 to implement the statutory provisions of section 215 of the Federal Power Act (FPA). On August 8, 2005, Congress enacted into law the Electricity Modernization Act of 2005, which is Title XII, Subtitle A, of the Energy Policy Act of 2005 (EPAct 2005). EPAct 2005 added a new section 215 to the FPA, which required a Commission-certified Electric Reliability Organization (ERO) to develop mandatory and enforceable Reliability Standards, which are subject to Commission review and approval. Once approved, the Reliability Standards may be enforced by the ERO subject to Commission oversight, or the Commission can independently enforce Reliability Standards.

On February 3, 2006, the Commission issued Order No. 672, implementing section 215 of the FPA. Pursuant to Order No. 672, the Commission certified one organization, North American Electric Reliability Corporation (NERC), as the ERO. The Reliability Standards developed by the ERO and approved by the Commission apply to users, owners and operators of the Bulk-Power System as set forth in each Reliability Standard.

On November 13, 2015, the North American Electric Reliability Corporation (NERC) filed a petition for Commission approval of proposed Reliability Standard PRC-005-6 (Protection System, Automatic Reclosing, and Sudden Pressure Relaying Maintenance). NERC also requested approval of the proposed implementation plan for PRC-005-6, and the retirement of previous versions of Reliability Standard PRC-005.

NERC explained in its petition that Reliability Standard PRC-005-6 represents an improvement upon the most recently-approved version of the standard, PRC-005-4. FERC approved the proposed Reliability Standard PRC-005-6 on December 18, 2015.

Type of Respondent: Planning Coordinators (PCs) and Generator Owners (GOs).

Estimate of Annual Burden: ¹ The Commission estimates the annual public reporting burden for the information collection as:

¹ “Burden” is the total time, effort, or financial resources expended by persons to generate, maintain, retain, or disclose or provide information to or for a Federal agency. For further explanation of what is included in the information collection burden, refer to Title 5 Code of Federal Regulations 1320.3.

² Entities affected by the PRC-005-6 Reliability Standard are registered to serve any of the following roles:

• PC = Planning Coordinators;

• GO = Generator Owners.

Some entities are registered to serve both roles.

³ The estimated hourly cost (salary plus benefits) provided in this section is based on the salary figures (http://www.bls.gov/oes/current/naics2_22.htm) and benefits (http://www.bls.gov/news.release/ecec.nr0.htm) for May 2017 posted by the Bureau of Labor Statistics for the Utilities sector. The hourly estimates for salary plus benefits are $66.90/hour based on the Electrical Engineering career (Occupation Code: 17-2071).

⁴ Total Annual Cost is rounded-up from $133,264.80 to $133,265.

⁵ 20 (PC role only) + 927 (GO role only) + 49 (joint role as PC and GO) = 996 unique entities.

⁶ This number is rounded from $133,264.80.

FERC-725P1: Mandatory Reliability Standards: PRC-005-6 ²
| Number of respondents | Annual number of responses per respondent | Total number of responses | Average burden hours and cost per response ³ | Total annual burden hours and total annual cost ⁴
| (1) | (2) | (1) * (2) = (3) | (4) | (3) * (4) = (5)
PRC-005-6 Reliability Standard | ⁵ 996 | 1 | 996 | 2 hrs.; $133.80 | 1,992 hrs.; $133,265 ⁶

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: August 16, 2019.
Nathaniel J. Davis, Sr.,
Deputy Secretary.

[FR Doc. 2019-18125 Filed 8-21-19; 8:45 am]

BILLING CODE 6717-01-P